SECURITIES AND EXCHANGE COMMISSION

[File No. 1-10996]

Issuer Delisting; Notice of Application of Aberdeen Global Income Fund, Inc., to Withdraw its Common Stock, $.001 Par Value, From Listing and Registration on the New York Stock Exchange, Inc.

November 17, 2004.

On October 28, 2004, Aberdeen Global Income Fund, Inc., a Maryland corporation (“Issuer”), filed an application with the Securities and Exchange Commission (“Commission”), pursuant to section 12(d) of the Securities Exchange Act of 1934 (“Act”) ¹ and Rule 12d2-2(d) thereunder,² to withdraw its common stock, $.001 par value (“Security”), from listing and registration on the New York Stock Exchange, Inc. (“NYSE”).

¹ 15 U.S.C. 78l(d).

² 17 CFR 240.12d2-2(d).

The Board of Directors (“Board”) of the Issuer approved a resolution on June 9, 2004 to withdraw the Issuer's Security from listing on the NYSE and to list on the American Stock Exchange LLC (“Amex”). The Board stated that it determined to withdraw its Security from the NYSE and to list the Security on the Amex for the following reasons: (i) The Board considered that the Issuer will pay lower listing fees to the Amex than the listing fees that are currently paid to the NYSE; (ii) the Board considered that the two other closed-end investment companies (“funds”), in the same fund complex as the Issuer, have their common stock currently listed on the Amex; (iii) the Amex caps annual listing fees for multiple closed-end funds of the same sponsor, which will result in savings for both the Issuer and the other funds in the fund complex; and (iv) the Issuer also considered the fact that monitoring compliance with one set of listing requirements, rather than monitoring compliance with the listing requirements of both the NYSE and the Amex, as is currently the case, would result in administrative efficiencies.

The Issuer represented in its application that it has complied with the NYSE's rules governing an issuer's voluntary withdrawal of a security and with all applicable laws in effect in the State of Maryland, the state in which it is incorporated. The Issuer's application relates solely to the withdrawal of the Security from listing on the NYSE, and shall not affect its continued listing on the Amex or its obligation to be registered under section 12(b) of the Act.³

³ 3 15 U.S.C. 78l(b).

Any interested person may, on or before December 13, 2004 comment on the facts bearing upon whether the application has been made in accordance with the rules of the NYSE and what terms, if any, should be imposed by the Commission for the protection of investors. All comment letters may be submitted by either of the following methods:

Electronic Comments

• Send an e-mail to rule-comments@sec.gov. Please include the File Number 1-10996 or;

Paper Comments

• Send paper comments in triplicate to Jonathan G. Katz, Secretary, Securities and Exchange Commission, 450 Fifth Street, NW., Washington, DC 20549-0609.

All submissions should refer to File Number 1-10996. This file number should be included on the subject line if e-mail is used. To help us process and review your comments more efficiently, please use only one method. The Commission will post all comments on the Commission's Internet Web site (http://www.sec.gov/rules/delist.shtml). Comments are also available for public inspection and copying in the Commission's Public Reference Room, 450 Fifth Street, NW., Washington, DC 20549. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁴
⁴ 4 17 CFR 200.30-3(a)(1).
Jonathan G. Katz,
Secretary.

[FR Doc. E4-3296 Filed 11-22-04; 8:45 am]

BILLING CODE 8010-01-P